DEPARTMENT OF TRANSPORTATION

Federal Railroad Administration

[Docket Number FRA-2006-25837]

Petition for Waiver of Compliance

Under part 211 of Title 49 Code of Federal Regulations (CFR), this document provides the public notice that on July 27, 2017, the Charlotte Area Transit System (CATS) petitioned the Federal Railroad Administration (FRA) for a waiver of compliance from certain provisions of the Federal railroad safety regulations contained at Title 49 CFR part 219, Control of Alcohol and Drug Use. FRA assigned the petition docket number FRA-2006-25837.

CATS has provided rail fixed guideway public transit service in the Charlotte, North Carolina metropolitan area since 2007 with its original 9.6-mile Blue Line system that operates from South Charlotte to Center City Charlotte. This portion features a shared corridor with Norfolk Southern Railway (NS), including separation of track centers by 40 feet or more and limited connections with NS at two shared highway-rail grade crossings at East Hebron Street and Sweden Road. CATS and NS signal and train control employees maintain their own respective crossing equipment. CATS is currently constructing a 9.3-mile extension of this Blue Line (LYNX BLE) which will provide service from Center City Charlotte to a terminus on the University of North Carolina campus with revenue service expected to begin by March 31, 2018. This extension will again share a corridor with NS, including a 75-foot track center separation and one limited connection with NS at a shared highway-rail grade crossing at 16th Street. CATS employees will continue to maintain crossing equipment on the CATS side of the corridor only, with NS employees maintaining the equipment on the NS side.

CATS seeks relief from 49 CFR part 219 because it is already in compliance with Federal Transit Administration drug and alcohol regulations at 49 CFR part 655. CATS asserts this compliance provides an equivalent level of safety consistent with FRA's alcohol and drug regulations in part 219. CATS states that such a waiver will not result in any reduction in safety at the highway rail grade crossings it shares with NS and will preserve consistency throughout the CATS system for already-existing alcohol and drug policies.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by September 29, 2017 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC, on August 10, 2017.
John Karl Alexy,
Director, Office of Safety Analysis.

[FR Doc. 2017-17224 Filed 8-14-17; 8:45 am]

BILLING CODE 4910-06-P